DEPARTMENT OF HEALTH AND HUMAN SERVICES

Centers for Disease Control and Prevention

[30Day-15-0314]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

The National Survey of Family Growth (NSFG)-(0920-0314, Expiration 04/30/2015—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “family formation, growth, and dissolution,” as well as “determinants of health” and “utilization of health care” in the United States. This three-year clearance request includes the data collection in 2015-2018 for the continuous NSFG.

The National Survey of Family Growth (NSFG) was conducted periodically between 1973 and 2002, and continuously since 2006, by the National Center for Health Statistics, CDC. Each year, about 15,000 households are screened, with about 5,000 participants interviewed annually. Participation in the NSFG is completely voluntary and confidential. Interviews average 60 minutes for males and 80 minutes for females. The response rate since 2011 has been about 73 percent. The NSFG program produces descriptive statistics which measure factors associated with birth and pregnancy rates, including contraception, infertility, marriage, divorce, and sexual activity, in the U.S. population 15-49; and behaviors that affect the risk of sexually transmitted diseases (STD), including HIV, and the medical care associated with contraception, infertility, and pregnancy and childbirth.

NSFG data users include the DHHS programs that fund it, including CDC/NCHS and nine others (The Eunice Kennedy Shriver National Institute of Child Health and Human Development (NIH/NICHD); the Office of Population Affairs (DHHS/OPA); the Children's Bureau within the Administration for Children and Families (DHHS/ACF/CB); the ACF's Office of Planning, Research, and Evaluation (DHHS/ACF/OPRE); the CDC's Division of HIV/AIDS Prevention (CDC/DHAP); the CDC's Division of STD Prevention (CDC/DSTDP); the CDC's Division of Cancer Prevention and Control (CDC/DCPC); the CDC's Division of Birth Defects and Developmental Disabilities (CDC/DBDDD); and the CDC's Division of Reproductive Health (CDC/DRH). The NSFG is also used by state and local governments; private research and action organizations focused on men's and women's health, child well-being, and marriage and the family; academic researchers in the social and public health sciences; journalists, and many others.

No questionnaire changes are requested in the first 6 months of this clearance; limited changes including (1) the expansion of the age range from 15-44 years of age to 15-49, (2) some revision of the female and male questionnaires to incorporate new and modified items related to contraceptive use, reproductive health, preventive service screening/counseling, sexual orientation, health insurance, cigarette smoking, cancer risk, military service and sheltered homelessness, and (3) the request to add or modify a small number of questions in 2017 using a non-substantive change request, to be responsive to emerging public policy issues. There is no cost to respondents other than their time. The total estimated annualized burden hours are 7,318.

Estimated Annualized Burden Hours
Type of respondents | Form name | Number of responses | Number of responses per respondent | Average burden per response (in hrs)
Individual | Screener Interview | 15,000 | 1 | 3/60
Individual | Female Interview | 2,750 | 1 | 90/60
Individual | Male Interview | 2,350 | 1 | 60/60
Individual | Screener Verification | 1,500 | 1 | 2/60
Individual | Main Verification | 510 | 1 | 5/60

Leroy A. Richardson,
Chief, Information Collection Review Office, Office of Scientific Integrity, Office of the Associate Director for Science, Office of the Director, Centers for Disease Control and Prevention.

[FR Doc. 2015-09191 Filed 4-20-15; 8:45 am]

BILLING CODE 4163-18-P